DEPARTMENT OF HEALTH AND HUMAN SERVICES

Centers for Disease Control and Prevention

Health Resources and Services Administration

CDC/HRSA Advisory Committee on HIV and STD Prevention and Treatment

In accordance with section 10(a)(2) of the Federal Advisory Committee Act (Pub. L. 92-463), the CDC and HRSA announce the following committee meeting.

Time and Date: 2 p.m.-3:30 p.m., July 29, 2010.

Place: Teleconference. To participate, please dial (877) 952-1988 and enter passcode 2162797 for access.

Status: Open to the public, limited only by availability of telephone ports.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: The purpose of the teleconference is for CHACHSPT to deliberate and discuss the outcomes of a CDC/HRSA Advisory Committee workgroup that will convene on July 8, 2010. The workgroup will conduct a program review to provide information to CHACHSPT on the strategic realignment of funding to support priorities in sexual health and STD disparities among racial and ethnic minorities. The objectives of the workgroup are: (1) To identify to CHACHSPT future opportunities to accelerate the impact in health disparities through programs, policy, and research and public health ethics; (2) To provide information to CHACHSPT regarding potential use of realigned funding; and, (3) To provide key principles (e.g., program, policy, research) to be considered by CHACHSPT in the development of a new funding opportunity announcement for the use of realigned resources.

For More Information Contact: Margie Scott-Cseh, CDC, National Center for HIV/AIDS, Viral Hepatitis, STD, and TB Prevention, 1600 Clifton Road, NE., Mailstop E-07, Atlanta, Georgia 30333, Telephone (404) 639-8317.

The Director, Management Analysis and Services Office, has been delegated the authority to sign Federal Register Notices pertaining to announcements of meetings and other committee management activities, for both the CDC and the Agency for Toxic Substances and Disease Registry.

Dated: June 30, 2010.
Elaine L. Baker,
Director, Management Analysis and Services Office, Centers for Disease Control and Prevention.

[FR Doc. 2010-16613 Filed 7-7-10; 8:45 am]

BILLING CODE 4163-18-P